DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Dates and Times: January 19, 2011, 8:30 a.m.-4 p.m., January 20, 2011, 8:30 a.m.-12:15 p.m.

Place: Hilton Washington DC/Rockville Executive Meeting Center, 1750 Rockville Pike, Rockville, MD 20852. Telephone: (301) 468-1100.

Status: The meeting will be open to the public.

Agenda: On the morning of January 19, following welcoming remarks from the COGME Chair, HRSA senior management, and the Executive Secretary of COGME, there will be an introduction of COGME members.

The rest of the first day will consist of presentations covering various aspects of graduate medical education, Bureau of Health Professions activities concerning health workforce issues, a study of primary care physician projections by state, and work of the Medicare Payment and Advisory Commission on GME issues.

On January 20, there will be presentations on the findings and recommendations of COGME's 20th report, Advancing Primary Care (cover date December 2010). It is expected that the rest of the morning will be taken up in discussions in exploring the topic for COGME's next report.

Agenda items are subject to change as priorities dictate.

FOR FURTHER INFORMATION CONTACT: Anyone interested in obtaining a roster of members or other relevant information should write or contact Jerald M. Katzoff, Executive Secretary, COGME, Division of Medicine and Dentistry, Bureau of Health Professions, Parklawn Building, Room 9A-27, 5600 Fishers Lane, Rockville, Maryland 20857, Telephone (301) 443-4443. The Web address for information on the Council and the January 19-20, 2011 meeting agenda is http://cogme.gov.

Dated: December 9, 2010.
Robert Hendricks,
Director, Division of Policy and Information Coordination.

[FR Doc. 2010-31712 Filed 12-16-10; 8:45 am]

BILLING CODE 4165-15-P